FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/address | Date reissued
004428NF | A A Shipping LLC, 11100 Wilcrest, Unit #3, Houston, TX 77099 | July 15, 2004.
010734NF | Alcar International, Inc., 5501 NW. 72nd Avenue, Miami FL 33166 | July 7, 2004.
002964NF | Aries International, Inc., 365 Franklin Avenue, Franklin Square, NY 11010 | July 13, 2004.
003706NF | Chesapeake Bay Shipping and, Warehousing, Inc., 3914 Vero Road, Baltimore, MD 21227 | July 5, 2004.
017378NF | E.M.W. Freight Forwarding Corp., 8601 NW. 72nd Street, Miami, FL 33166 | June 14, 2004.
004546F | Foreign Freight Systems Corp., 10250 NW. 89th Avenue, Bay 10, Miami, FL 33126 | July 20, 2004.
016471NF | Universal Express International, 14930 S. Figueroa Street, Gardena, CA 90248 | July 15, 2004.

Ronald D. Murphy,
Deputy Director, Bureau of Consumer Complaints and Licensing.

[FR Doc. 04-19470 Filed 8-24-04; 8:45 am]

BILLING CODE 6730-01-P